DEPARTMENT OF COMMERCE

National Institute of Standards and Technology

Proposed Information Collection; Comment Request; National Institute of Standards and Technology (NIST), Generic Clearance for Community Resilience Data Collections

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 29, 2019.

ADDRESSES: Direct all written comments to Jennifer Jessup, Departmental Paperwork Clearance Officer, Department of Commerce, Room 6616, 1401 Constitution Avenue NW, Washington, DC 20230 (or via the internet at PRAcomments@doc.gov).

FOR FURTHER INFORMATION CONTACT: Requests for additional information or copies of the information collection instrument and instructions should be directed to Jennifer Helgeson, Economist, NIST, 100 Bureau Drive, MS 8603, Gaithersburg, MD 20899-1710, telephone 301-975-6133, or via email to jennifer.helgeson@nist.gov.

SUPPLEMENTARY INFORMATION:

I. Abstract

Through acts such as the National Construction Safety Team Act (NCSTA) and the NIST Organic Act, among others, as well as the President's Climate Action Plan (2013), NIST conducts research and develops guidance and other related tools to promote and enhance the safety and well-being of people in the face of a hazard event. With this in mind, NIST proposes to conduct a number of data collection efforts within the topic areas of disaster and failure studies and community resilience and sustainability, including studies of specific disaster events (e.g., wildfire, urban fire, structure collapse, hurricane, earthquake, tornado, and flood events), assessments of community resilience and sustainability, and evaluations of the usability and utility of NIST guidance or other products.

These data collection efforts may be either qualitative or quantitative in nature or may consist of mixed methods. Additionally, data may be collected via a variety of means, including but not limited to electronic or social media, direct or indirect observation (i.e., in person, video and audio collections), interviews, questionnaires, and focus groups. NIST will limit its inquiries to data collections that solicit strictly voluntary opinions or responses. The results of the data collected will be used to decrease negative impacts of disasters on society, and, in turn, increase community resilience within the U.S. communities. Steps will be taken to ensure anonymity of respondents in each activity covered by this request.

This notice pertains to both a revision and an extension of a previously approved submission. The NIST Engineering Laboratory utilizes this clearance to conduct research in support of topic areas of disaster and failure studies, community resilience (including studies of specific disaster events such as wildfire, urban fire, structure collapse, hurricane, earthquake, tornado, and flood events).

This type of research is directly related to a range of disasters which are unpredictable in their number during a given year. Additionally, some disasters may require multiple studies resulting in multiple collections. Therefore, in preparation of the upcoming disaster season, NIST is requesting to increase the ICR Annual Response allotment from 15,000 to 20,000 Responses; and the ICR Annual Hours allotment from 12,000 to 15,000. NIST assures that no changes will be made to any the individual information collection requests that have been approved for use.

II. Method of Collection

NIST will collect this information by electronic means when possible, as well as by mail, fax, telephone, technical discussions, and in-person interviews. NIST may also utilize observational techniques to collect this information.

III. Data

OMB Control Number: 0693-0078.

Form Number(s): None.

Type of Review: Revision.

Affected Public: Individuals or households; first responders; businesses or other for-profit organizations; not-for-profit institutions; State, local or tribal government; Federal government; Standards-making bodies; Universities.

Estimated Number of Respondents: 20,000.

Estimated Time per Response: Varied, dependent upon the data collection method used. The possible response time to complete a questionnaire may be 15 minutes or 2 hours to participate in an interview.

Estimated Total Annual Burden Hours: 15,000.

Estimated Total Annual Cost to Public: $0.

IV. Request for Comments

NIST invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-03243 Filed 2-25-19; 8:45 am]

BILLING CODE 3510-13-P